ENVIRONMENTAL PROTECTION AGENCY

40 CFR Parts 52

[EPA-R04-OAR-2014-0220; FRL-9922-41-Region 4]

Air Quality Implementation Plan; Florida; Attainment Plan for the Hillsborough Area for the 2008 Lead National Ambient Air Quality Standards

AGENCY: Environmental Protection Agency.

ACTION: Proposed rule.

SUMMARY: The Environmental Protection Agency (EPA) is proposing to approve revisions to the state implementation plan (SIP), submitted by the State of Florida through the Florida Department of Environmental Protection (FL DEP), to EPA on June 29, 2012, as amended on June 27, 2013, for the purpose of providing for attainment of the 2008 Lead (Pb) National Ambient Air Quality Standards (NAAQS) in the Hillsborough 2008 Lead nonattainment area (hereafter referred to as the “Hillsborough Area” or “Area”). The Hillsborough Area is comprised of a portion of Hillsborough County in Florida surrounding EnviroFocus Technologies, LLC (hereafter referred to as “EnviroFocus”). The attainment plan includes the base year emissions inventory, an analysis of reasonably available control technology (RACT) and reasonably available control measures (RACM), reasonable further progress (RFP) plan, modeling demonstration of lead attainment, and contingency measures for the Hillsborough Area. This action is being taken in accordance with the Clean Air Act (CAA or Act).

DATES: Written comments must be received on or before March 9, 2015.

ADDRESSES: Submit your comments, identified by Docket ID Number EPA-R04-OAR-2014-0220 by one of the following methods:

1. www.regulations.gov: Follow the on-line instructions for submitting comments.

2. Email: R4-ARMS@epa.gov.

3. Fax: (404) 562-9019.

4. Mail: EPA-R04-OAR-2014-0220 Air Regulatory Management Section (formerly the Regulatory Development Section), Air Planning and Implementation Branch (formerly the Air Planning Branch), Air, Pesticides and Toxics Management Division, U.S. Environmental Protection Agency, Region 4, 61 Forsyth Street SW., Atlanta, Georgia 30303-8960.

5. Hand Delivery or Courier: Ms. Lynorae Benjamin, Chief, Air Regulatory Management Section, Air Planning and Implementation Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 a.m. to 4:30 p.m., excluding Federal holidays.

Instructions: Direct your comments to Docket ID No. EPA-R04-OAR-2014-0220. EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Air Regulatory Management Section, Air Planning and Implementation Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 a.m. to 4:30 p.m., excluding Federal holidays.

FOR FURTHER INFORMATION CONTACT: Zuri Farngalo of the Air Regulatory Management Section in the Air Planning and Implementation Branch; Air, Pesticides and Toxics Management Division; U.S. Environmental Protection Agency; Region 4, 61 Forsyth Street SW., Atlanta, Georgia 30303-8960. Mr. Farngalo may be reached by phone at (404) 562-9152, or via electronic mail at farngalo.zuri@epa.gov.

SUPPLEMENTARY INFORMATION:

Table of Contents

I. What action is EPA proposing to take?

II. What is the background for EPA's proposed action?

III. What is included in Florida's attainment plan submittal for the Hillsborough area?

IV. What is EPA's analysis of Florida's submittal for the Hillsborough area?

1. Pollutants Addressed

2. Emissions Inventory Requirements

3. Attainment Planning Modeling

4. RACM/RACT

5. RFP Plan

6. Contingency Measures

7. Attainment Date

V. Proposed Action

VI. Statutory and Executive Order Reviews

I. What action is EPA proposing to take?

EPA is proposing to approve Florida's SIP revisions for the Hillsborough Area, as submitted through FL DEP to EPA on June 29, 2012 (and later amended on June 27, 2013), for the purpose of demonstrating attainment of the 2008 Lead NAAQS. Florida's lead attainment plan for the Hillsborough Area includes a base year emissions inventory, a modeling demonstration of lead attainment, an analysis of RACM/RACT, a RFP plan, and contingency measures.

EPA has preliminarily determined that Florida's attainment plan for the 2008 Lead NAAQS for the Hillsborough Area meets the applicable requirements of the CAA. Thus, EPA is proposing to approve Florida's attainment plan for the Hillsborough Area as submitted on June 29, 2012, and later amended on June 27, 2013. EPA's analysis for this proposed action is discussed in Section IV of this proposed rulemaking.

II. What is the background for EPA's proposed action?

On November 12, 2008 (73 FR 66964), EPA revised the Lead NAAQS, lowering the level from 1.5 micrograms per cubic meter (μg/m³) to 0.15 μg/m³ calculated over a three-month rolling average. EPA established the 2008 Lead NAAQS based on significant evidence and numerous health studies demonstrating that serious health effects are associated with exposures to lead emissions.

Following promulgation of a new or revised NAAQS, EPA is required by the CAA to designate areas throughout the United States as attaining or not attaining the NAAQS; this designation process is described in section 107(d)(1) of the CAA. On November 22, 2010 (75 FR 71033), EPA promulgated initial air quality designations for the 2008 Lead NAAQS, which became effective on December 31, 2010, based on air quality monitoring data for calendar years 2007—2009, where there was sufficient data to support a nonattainment designation. Designations for all remaining areas were completed on November 22, 2011 (76 FR 72097), which became effective on December 31, 2011, based on air quality monitoring data for calendar years 2008—2010. Effective on December 31, 2010, the Hillsborough Area was designated as nonattainment for the 2008 Lead NAAQS. This designation triggered a requirement for Florida to submit a SIP revision with a plan for how the Area would attain the 2008 Lead NAAQS, as expeditiously as practicable, but no later than December 31, 2015.

FL DEP submitted its SIP submittal for the Hillsborough Area on June 29, 2012 (and later amended on June 27, 2013), which included the base year emissions inventory and the attainment demonstration. EPA's analysis of the submitted attainment plan includes a review of the pollutant addressed, emissions inventory requirements, modeling, RACT and RACM requirements, RFP plan, and contingency measures for the Hillsborough Area.

III. What is included in Florida's attainment plan submittal for the Hillsborough area?

In accordance with section 172(c) of the CAA and the SIP Toolkit, the Florida attainment plan for the Hillsborough Area includes: (1) An emissions inventory for the plan's base year (2009); and (2) an attainment demonstration. The attainment demonstration includes: technical analyses that locate, identify and quantify sources of emissions contributing to violations of the 2008 Lead NAAQS; a modeling analysis of an emissions control strategy for the EnviroFocus facility that attains the level of the Lead NAAQS by the attainment year (2015), a construction permit for the EnviroFocus facility that includes emissions reduction measures with schedules for implementation and compliance; and contingency measures required under section 172(c)(9) of the CAA.

IV. What is EPA's analysis of Florida's submittal for the Hillsborough area?

The CAA requirements (see, e.g., section 172(c)(4)) and the Lead SIP regulations found at 40 CFR 51.117) require states to employ atmospheric dispersion modeling for the demonstration of attainment of the Lead NAAQS for areas in the vicinity of point sources listed in 40 CFR 51.117(a)(1), as expeditiously as practicable. The demonstration must also meet the requirements of 40 CFR 51.112 and Part 51, Appendix W, and include inventory data, modeling results, and emissions reduction analyses on which the State has based its projected attainment. All these requirements comprise the “attainment plan” that is required for lead nonattainment areas. In the case of the Hillsborough Area, EPA is proposing to approve the attainment plan submitted by Florida on June 29, 2012, and later amended June 27, 2013. More detail on EPA's analysis is provided below.

1. Pollutants Addressed

Florida's lead attainment plan evaluates lead emissions in the Hillsborough Area within the portion of Hillsborough County designated nonattainment for the 2008 Lead NAAQS. There are no precursors to consider for the lead attainment plan.

2. Emissions Inventory Requirements

States are required under section 172(c)(3) of the CAA to develop comprehensive, accurate and current inventories of actual emissions from all sources of the relevant pollutant or pollutants in the area. These inventories provide a detailed accounting of all emissions and emission sources by precursor or pollutant. In the November 12, 2008, Lead Standard rulemaking, EPA finalized the emissions inventories requirements. The current regulations are located at 40 CFR 51.117(e), and include, but are not limited to, the following emissions inventory requirements:

• The SIP inventory must be approved by EPA as a SIP element and is subject to public hearing requirements; and

• The point source inventory upon which the summary of the baseline for lead emissions inventory is based must contain all sources that emit 0.5 or more tons of lead per year.

For the base year inventory of actual emissions, EPA generally recommends using either the year 2010 or 2011 as the base year for the contingency measure calculations, but does provide flexibility for using other inventory years if states can show another year is more appropriate.¹ For Lead SIPs, the CAA requires that all sources of lead emissions in the nonattainment area be submitted with the base-year inventory. In today's action, EPA is proposing to approve the base year emissions inventory portion of the SIP revision submitted by Florida on June 29, 2012 (and later amended on June 27, 2013), as required by section 172(c)(3).

¹ See EPA document titled “Addendum to the 2008 Lead NAAQS Implementation Questions and Answers” dated August 10, 2012, included in EPA's SIP Toolkit located at http://www.epa.gov/air/lead/implement.html.

The State of Florida did not elect to use 2011 or 2010 as the base year, but chose to use the year 2009 as the base year. The only source of lead emissions within the Hillsborough Area is EnviroFocus. The facility recycles and processes lead from lead-acid batteries and other lead-bearing materials and produces point source emissions from several stacks in addition to fugitive emissions. The design value used for designating the area as nonattainment was based on monitoring data from 2007-2009. In addition, the facility undertook renovations beginning in 2010, to fully enclose the facility and perform other RACM/RACT measures summarized in Table 3 below, which will facilitate attainment of the 2008 Lead NAAQS by the 2015 attainment date. The State of Florida elected to use the year 2009 as the base year, during which time the renovations activities commenced and further contributed to the monitoring violations that resulted in the Area being designated nonattainment for the revised Lead NAAQS. For the purposes of calculating the nonattainment area emissions inventory, lead emissions data were taken from the facility's 2009 Annual Operating Report (AOR) for EnviroFocus' stacks. According to this report, 0.5733 tons of lead emissions were emitted from stacks in 2009. On this basis, EPA is proposing to approve the State's decision to elect 2009 as a base year as appropriate for this purpose.

Also included in the nonattainment area emissions inventory as point source emissions are the fugitive lead emissions associated with EnviroFocus' on-site truck traffic. The lead emissions associated with the on-site truck traffic were calculated with data used in the attainment modeling demonstration.² The annual emissions for each road segment were then summed together to produce annual lead fugitive emissions associated with all on-site truck traffic. According to this calculation, 0.0142 tons of fugitive lead emissions were associated with on-site truck traffic at EnviroFocus in 2009.

² This was accomplished by applying the following mathematical formula: Pb emission rate (pounds (lbs) per hour)/2000 (lbs/ton) * 16 (hours per day that the vehicles operate) * 365 (days per year).

The emissions generated from on-site truck traffic are also attributed to the EnviroFocus facility and are therefore considered to be a portion of the point source category. As a result, the fugitive lead emissions associated with the on-site truck traffic were added to the stack lead emissions from EnviroFocus' 2009 AOR. With this adjustment, the lead emissions emitted from EnviroFocus in 2009 equals 0.5875 tons of lead emissions.³ Table 1 identifies the 2009 base year for the emissions inventory for the Hillsborough Area.

³ Not included in this figure are the unquantifiable fugitive emissions which have been considered to be the major contributor to monitored violations at the EnviroFocus facility in the past when the process areas were not completely enclosed.

Table 1—2009 Base Year Nonattainment Area Emissions Inventory
[Tons per year]
Emissions unit | Unit description | Lead emissions
EU 001 * | Blast Furnace Exhaust | 0.3804
EU 004 * | Blast Furnace Tapping & Charging | 0.1594
EU 011 * | Four Refining Kettles | 0.0232
EU 015 * | Blast Furnace Enclosure | 0.0103
| Quantifiable Fugitive Emissions | 0.0142
Total |  | 0.5875
* All four of the units are currently inactive as they have been replaced as a result of modernization of the facility.

As previously mentioned, other than EnviroFocus, there are no other sources of lead emissions in the Hillsborough Lead nonattainment area. EnviroFocus began a reconstruction and modernization project in 2010 to fully enclose the facility in order to achieve compliance with the new Lead NAAQS. FL DEP has verified that the modernization work has been completed.

EPA has preliminarily determined that the 2009 base year emissions inventory estimates submitted are in compliance with section 172(c)(3). Therefore, EPA is proposing to approve Florida's base year emissions inventory for the 2008 Lead NAAQS for the Hillsborough Area.

3. Attainment Planning Modeling

The Florida modeling analysis was prepared using EPA's preferred dispersion modeling system, the American Meteorological Society/Environmental Protection Agency Regulatory Model (AERMOD) consisting of the AERMOD (version 12060) model and two data input preprocessors AERMET (version 11059), and AERMAP (version 11103), consistent with EPA's Modeling Guidance ⁴ and 40 CFR 51.117. Other EPA processors used in the modeling include AIRMINUTE, AERSURFACE and LEADPOST (version 12114). More detailed information on the AERMOD Modeling system and other modeling tools and documents can be found on the EPA Technology Transfer Network Support Center for Regulatory Atmospheric Modeling (SCRAM) (http://www.epa.gov/ttn/scram/) and in Florida's June 29, 2012 submittal, as amended on June 27, 2013, in the docket for this proposed action (EPA-R04-OAR-2014-0220) on the www.regulations.gov Web site. A brief description of the modeling used to support the State of Florida's attainment demonstration is provided below.

⁴ 40 CFR part 51 Appendix W (EPA's Guideline on Air Quality Models) (November 2005) located at http://www.epa.gov/ttn/scram/guidance/guide/appw_05.pdf.

a. Modeling Approach

The following is an overview of the air quality modeling approach used to demonstrate compliance with the 2008 Lead NAAQS, as submitted in Florida's June 29, 2012 submittal, as amended on June 27, 2013.

• Develop model inputs using the AERMOD modeling system and processors which include the:

○ AERMOD pre-processors, AERMET and AERMAP to process five years (i.e., 2006-2010) of 1-minute meteorological data from the National Weather Service (NWS) at Ruskin and Tampa International Airport (the closest weather station to EnviroFocus), based on FL DEP's land use classifications, in combination with upper-air meteorological data from the Ruskin, Florida, NWS upper-air sounding site;

○ AERMOD pre-processor, AERMAP to generate terrain inputs for the receptors, based on a digital elevation mapping database from the National Elevation Dataset developed by the U.S. Geological Survey;

○ AERMOD pre-processor, AERSURFACE to generate direction specific land use based surface characteristics for the modeling;

○ AERMINUTE processor to reduce the number of calm and missing winds in the surface data;

○ Development of a Cartesian receptor grid across and along the nonattainment boundary (approximately 1.14 miles around the EnviroFocus facility), with 50 meter spacing in ambient air to ensure maximum concentrations are captured; and

○ Development of all other input options commensurate with the EPA's Modeling Guidance;

○ Selection of a Lead background concentration based on local lead monitoring data from monitoring station No. 12-057-0100 (known as the new “Kenly” monitor) for the period June 2010 to March 2012. The data was obtained from the EPA Air Quality System. This monitor is approximately 0.9 kilometers to the north of EnviroFocus. Due to its close proximity to the EnviroFocus facility, monitored concentrations at this station are strongly influenced by the facility's emissions. As a result, the data was filtered to remove measurements where the wind direction could transport pollutants from EnviroFocus to the station. More specifically, the data was filtered to remove measurements where at least one hour in the 24-hour measurement period had wind direction in the range of 175° to 200°;

○ Air quality modeling demonstration that includes all lead-emitting sources for the EnviroFocus facility, as well as a complete lead modeling inventory of surrounding sources within 50 kilometers of the Significant Impact Area (SIA) Data for the modeling inventory for surrounding sources was obtained from FL DEP's Air Resource Management System (ARMS) database; and

○ Fugitive emissions associated with paved roadways (i.e., truck traffic) on the EnviroFocus property were modeled based on the methodology described in the Texas Natural Resource Conservation Commission's guidelines, which was specifically developed for modeling roadway fugitive emissions. Similar to the Industrial Source Complex User's Guide (EPA, 1995d), emissions from roadways are represented as a series of volume sources (229 individual road segments). Emission factors were estimated based upon emissions formulas presented in Section 13 of AP-42. Since shipping is conducted with 18-wheeler trucks, maximum vehicle width and height for the State of Florida were used to estimate the dimensions of the volume sources. The modeling assumes continuous truck traffic from 6:00 a.m. to 10:00 p.m., seven days a week, which is a conservative estimate. The methodology for modeling fugitive emissions from roadways was described in the SIP proposed by EnviroFocus and its consultant in 2009, as part of the facility's original permit modeling demonstration. The emissions sources for EnviroFocus and roadway sources used in the modeling are included in the Florida SIP, as amended on June 27, 2013.

• Develop 2009 base year and the 2015 control strategy emissions inventories for input in the air quality model to perform current and control dispersion modeling. The modernization has been completed. The maximum allowable emissions post modernization will be 0.96 tons per year (tpy) of lead emissions, which are slightly less than the allowable emissions prior to the modernization (i.e., 0.97 tpy) which did not account for the substantial fugitive emissions. As detailed below, the air quality analysis demonstrates that the modernized facility will comply with the revised Lead NAAQS because the unquantifiable fugitive emissions will be greatly reduced, primarily due to the negative-pressure total enclosure of all process areas. More specifically, virtually all of the current fugitive emissions will be contained and filtered, with over 99 percent control efficiency prior to being released through the building ventilation stacks.

• Process AERMOD outputs through EPA's LEADPOST post processor (version 12114) deriving the maximum 3-month average rolling design value across the five year meteorological data period.

b. Modeling Results

The Lead NAAQS compliance results of the attainment modeling are summarized in Table 2 below. Table 2 presents the results from the AERMOD modeling that were performed. The modeling used five years (2006-2010) of meteorological data from the NWS site in Tampa, Florida, as processed through AERSURFACE, to develop surface characteristics inputs. Modeling with one set of data was also used since on-site meteorological data is not available at the EnviroFocus facility.

As can be seen in Table 2, the maximum 3-month rolling average across all five years of meteorological data (2006-2010) is less than or equal to the 2008 Lead NAAQS of 0.15 μg/m³ for one set of AERMOD modeling runs. Output from the LEADPOST processor which details all of the concentrations can be found in the body of the June 29, 2012 submittal, as amended on June 27, 2013.

Table 2—Summary of Modeling Results
Pollutant | Averaging time | Maximum predicted impact (μg/m³) | Background concentration (μg/m³) | Total impact (μg/m³) | NAAQS (μg/m³) | Impact greater than NAAQS
Pb | 3-month rolling | 0.115 | 0.016 | * 0.13 | 0.15 μg/m³ | No.
* This is the maximum 3 month rolling average.

The post-control, which includes the RACM and RACT analysis, resulted in a predicted impact of 0.115 μg/m³ (NWS MET data) and 0.016 μg/m³ background data. This data indicates significant reductions in air quality impacts with the future implementation of the post-construction control plan for the EnviroFocus facility. This data also supports that the controls represent RACM and RACT for the SIP, with the control strategy for the facility as reflected in the facility's construction permit, which includes negative pressure total enclosure of the process area and compliance with the Secondary Lead MACT (40 CFR part 63, subpart X). More details on the pre-construction and post-construction operations at the facility are included in the Florida SIP. Therefore, on this basis, FL DEP asserted that the proposed controls are RACM/RACT and should be sufficient to attain 2008 Lead NAAQS.

EPA has reviewed the modeling that Florida submitted to support the attainment demonstration for the Hillsborough Area and has preliminarily determined that this modeling is consistent with CAA requirements, Appendix W and EPA guidance for lead attainment demonstration modeling.

4. RACM/RACT

a. Requirements for RACM/RACT

CAA section 172(c)(1) requires that each attainment plan provides for the implementation of all reasonably available control measures, as expeditiously as practicable and attainment of the NAAQS. EPA interprets RACM, including RACT, under section 172, as measures that a state determines to be both reasonably available and contribute to attainment as expeditiously as practicable in the nonattainment area. A comprehensive discussion of the RACM/RACT requirement for lead attainment plans and EPA's guidance can be found in the SIP Toolkit.⁵

⁵ “SIP Toolkit—Attainment Demonstrations and Air Quality Modeling,” dated April 12, 2012, located at http://www.epa.gov/air/lead/kitmodel.html.

b. Florida's Evaluation of RACM/RACT Control Measures for the Hillsborough Area

On June 29, 2012, and later amended on June 27, 2013, FL DEP submitted a SIP revision that included a construction permit that was issued to EnviroFocus for proposed control measures to reduce lead emissions. Specifically, the construction permit reflecting RACT controls is included in Section 1-3 of the June 29, 2012 submittal, as amended, on June 27, 2013. In accordance with the schedule in the construction permit, the EnviroFocus facility was required to implement the controls on or before December 31, 2015. As discussed in the modeling section above, it is projected that the total enclosure of the building will capture about 99 percent of the fugitive lead emissions, and provide sufficient emissions reductions for the Hillsborough Area to attain the 2008 Lead NAAQS. FL DEP represented to EPA that EnviroFocus has completed implementation of the RACM controls identified in the permit and summarized in Table 3 below:

Table 3—Summary of RACM Controls
Description of measure | Explanation
Total Enclosure of Facility | EnviroFocus Technologies, LLC totally enclosed the facility with negative pressure. Ventilated air will be exhausted from the facility by two large 195,000 and 160,000 actual cubic feet per minute Torit cartridge collector filters. The Torit filters will have high efficiency particulate air filters downstream of them. The filter gases will be emitted from two stacks with heights of 130 and 190 feet (capable of achieving over 99 percent control efficiency).
Baghouses | EnviroFocus Technologies, LLC will use baghouses that are capable of achieving over 99 percent efficiency for exhaust control of all the smelting and refining operations.
Local Exhaust Vents (LEVs) | EnviroFocus Technologies, LLC will capture fugitive emissions from the process using enclosure hoods.
Wet suppression | EnviroFocus Technologies, LLC will use the sprinkler system, vacuum sweeping, and wheel washing of vehicles prior to exiting the building to control fugitive emissions on the facility ground and roadways.

c. Proposed Action on RACM/RACT Demonstration and Control Strategy

EPA is proposing to approve Florida's determination that the proposed controls for lead emissions at EnviroFocus constitute RACM/RACT for that source in the Hillsborough Area based on the summary above. Further, as summarized above, EPA proposes that no further controls will be required at the EnviroFocus facility and that the proposed controls are sufficient for RACM/RACT purposes for the Hillsborough Area, at this time.

Since the Hillsborough Area is projected to have attaining levels of the 2008 Lead NAAQS by the 2015 attainment date, and at this time, no additional measures could be adopted to achieve attainment one year sooner, EPA proposes to approve Florida's June 29, 2012 submittal, amended on June 27, 2013, as meeting the RACM/RACT requirements of the SIP Toolkit and that the level of control in the State's submission constitutes RACM/RACT for purposes of the 2008 Lead NAAQS. By approving these control measures as RACM/RACT for the EnviroFocus facility for purposes of Florida's attainment planning, these control measures will become permanent and enforceable SIP measures to meet the requirements of the CAA and the 2008 Lead NAAQS.

5. RFP Plan

Section 172(c)(2) of the CAA requires that an attainment plan includes a demonstration that shows reasonable further progress for meeting air quality standards will be achieved through generally linear incremental improvement in air quality. The term “reasonable further progress” is defined in section 171 to mean “such annual incremental reductions in the emissions of the relevant air pollutant as are required” for purposes of ensuring attainment of the applicable national ambient air quality standard by the applicable date. In accordance with section 172, the RFP requires implementation of all RACM/RACT as “expeditiously as practicable.” Historically, for some pollutants, RFP has been met by showing annual incremental emission reductions generally sufficient to maintain linear progress toward attainment by the applicable attainment date. As stated in the final Lead Rule (73 FR 67039), EPA concluded that it was appropriate that RFP requirements be satisfied by the strict adherence to an ambitious compliance schedule, which is expected to periodically yield significant emission reductions. For lead nonattainment areas, RFP is to be achieved by implementing an emission reduction compliance schedule outlined in the SIP. The RACM control measures for attainment of the 2008 Lead NAAQS included in the State's submittal have been modeled to achieve attainment of the NAAQS. The data summarized in Table 2, and analyzed above, demonstrates that the RACM controls in Table 3 will be implemented pursuant to an ambitious compliance schedule and will provide for significant emissions reductions for the Hillsborough Area. Based on the modeled attainment of the NAAQS, and the ambitious compliance schedule for the implementation of the control measures which will yield a significant reduction in lead emissions from the EnviroFocus facility, EPA has preliminarily determined that FL DEP's lead attainment plan for the 2008 Lead NAAQS meets the RFP requirements for the Hillsborough Area. EPA, therefore, proposes to approve the State's attainment plan with respect to the RFP requirements.

6. Contingency Measures

In accordance with section 172(c)(9) of the CAA, contingency measures are required as additional measures to be implemented in the event that an area fails to meet the RFP requirements or fails to attain a standard by its attainment date. These measures must be fully adopted rules or control measures that can be implemented quickly and without additional EPA or state action if the area fails to meet RFP requirements or fails to meet its attainment date and should contain trigger mechanisms and an implementation schedule. In addition, these measures should be ones that are not already included in the SIP control strategy for attaining the standard.

Based on all the improvements that were implemented for EnviroFocus above-referenced in Table 3 (Summary of RACM Controls) which are expected to reduce emissions of lead significantly, EPA has preliminarily determined that the 2008 Lead NAAQS can be achieved on a consistent basis. Since the RACM controls are expected to result in attainment of the Pb NAAQS or maintenance of RFP, any possible exceedances of the Pb NAAQS during any three month period after December 31, 2015 (the attainment date), is likely to be a result of a malfunction of one of the control measures. The contingency measures ⁶ as discussed below will immediately take effect to offset an increase in air quality concentrations that are expected to result from emission increases due to the likelihood of control malfunction. For example, in the event of any exceedances, upon notification by FL DEP, EnviroFocus would be required to conduct a twelve minute EPA Method 9 visible emissions reading on each Pb source outlet by a certified reader every day, as well as perform dye check on every filtration system that controls a lead source. These control measures will help to determine and detect the source of fugitive emissions not otherwise captured by RACM so that the exceedances can be addressed immediately. Other contingency measures such as increasing the sprinkler frequency to 5 minutes every 30 minutes during daylight hours and 5 minutes every 60 minutes during nighttime hours twenty-four hours a day everyday will serve to reduce fugitive dust emissions. If necessary, even more protective control measures will be required including EnviroFocus discontinuing operation of any emission unit connected to a filtration device that fails the dye leak check until such time as repairs are made and the unit passes a second leak check. Further, if any three consecutive month period averages greater than 0.15 μg/m3 at any one of the SIP-approved Pb monitors in the vicinity of EnviroFocus, FL DEP may require the immediate restriction of the daily production of lead from the blast and reverb furnaces. Since EnviroFocus is the only known major source of lead in the Hillsborough Area, reducing production at that facility will directly correlate to the reduction of Pb emissions. Each of the contingency measures will continue for a minimum of 90 days and remain in place until such time as FL DEP has determined that they are no longer needed.

⁶ In a letter dated December 23, 2014, FL DEP supplemented the “Contingency Measures” provisions of its Pb nonattainment Area Plan to reflect additional procedures and controls at the EnviroFocus facility that would be implemented immediately upon the trigger of various events related to future monitored exceedances or violations of the Pb NAAQS. The letter with the complete list of contingency measures is available at www.regulations.gov using Docket ID No. EPA-R04-OAR-2014-0220.

In addition to the identified contingency measures, pursuant to EnviroFocus' title V permit, if an exceedance of the NAAQS occurs during any three month period after December 31, 2015 (the deadline for full implementation of the control strategy), within 120 days, the facility will submit an investigative study identifying the source(s) of excessive emissions contributing to the exceedance. EnviroFocus will also develop and prepare a strategy to eliminate the likelihood of another exceedance. The 120 day review period will consists of a 30 day evaluation period immediately following a violation and then up to a 90 day consultation period with the facility to determine the best course of action. If a permit modification is deemed necessary, FL DEP would issue a new permit with the statutory timeframes required in Chapters 62-4 and 62-213 of the Florida Administrative Code (FAC). Since the EnviroFocus facility has implemented appropriate RACM control measures, and several protective layers of contingency measures will be triggered and executed immediately in the event of an exceedance of the NAAQS, EPA proposes that the contingency measures strategy submitted by the State of Florida meet the section 172(c)(9) requirements for the 2008 Lead NAAQS.

7. Attainment Date

Florida provided a modeling demonstration to attain the level of the 2008 Lead NAAQS for the Hillsborough Area by no later than five years after the Area was designated nonattainment. The modeling indicates that the Hillsborough Area will have attaining data for the 2008 Lead NAAQS by December 31, 2015. While there were violations of the 2008 lead NAAQS in 2013, they occurred during the limited time frame in which the facility was undergoing construction to modernize the facility which included building an enclosure that is expected to reduce emissions of lead significantly. Notwithstanding the violations, EPA believes that these violations, which occurred as part of enclosure and modernization of the facility in order to achieve a significant permanent reduction in lead emissions, do not render Florida's attainment demonstration unapprovable. There have been no violations of the 2008 Lead NAAQS since the last quarter of 2013 which directly corresponds with the installation of the final set of controls for the modernization. EPA does not believe that the facility could have achieved the 2008 Lead NAAQS more expeditiously than the current schedule. Therefore, EPA is proposing to approve the State's submission related to achievement of the 2008 Lead NAAQS as expeditiously as practicable.

V. Proposed Action

EPA is proposing to approve Florida's lead attainment plan for the Hillsborough Area. EPA has preliminarily determined that the SIP meets the applicable requirements of the CAA. Specifically, EPA is proposing to approve Florida's June 29, 2012 submittal, as amended on June 27, 2013, which includes the attainment demonstration, base year emissions inventory, RACM/RACT analysis, contingency measures and RFP plan. The requirement for a RFP plan is satisfied because the State of Florida demonstrated that the Area will attain the 2008 Lead NAAQS as expeditiously as practicable, and could not implement any additional measures to attain the NAAQS any sooner.

VI. Statutory and Executive Order Reviews

Under the CAA, the Administrator is required to approve a SIP submittal that complies with the provisions of the Act and applicable Federal regulations. 42 U.S.C. 7410(k); 40 CFR 52.02(a). Thus, in reviewing SIP submissions, EPA's role is to approve state choices, provided that they meet the criteria of the CAA. Accordingly, this proposed action merely approves state law as meeting Federal requirements and does not impose additional requirements beyond those imposed by state law. For that reason, this proposed action:

• Is not a “significant regulatory action” subject to review by the Office of Management and Budget under Executive Order 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, October 7, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Lead, Reporting and Recordkeeping requirements.

Authority: 42 U.S.C. 7401 et seq.

Dated: January 26, 2015.
Heather McTeer Toney,
Regional Administrator, Region 4.

[FR Doc. 2015-02335 Filed 2-4-15; 8:45 am]

BILLING CODE 6560-50-P